FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 202-000050-069

Title: United States/Australia New Zealand Association

Parties:

Columbus Line

PO Nedlloyd Limited

Australia New Zealand Direct Line

Synopsis: The proposed amendment would delete all Agreement authority except the authority to complete existing service contracts. The amendment would also terminate the Agreement on April 30, 2001, the date on which the last Agreement service contract expires. The amendment further provides that the parties will discontinue use of the Agreement and will operate under the provisions of the United States Australasia Agreement (FMC Agreement No. 202-011677) as of January 26, 2000.

Agreement No.: 203-011075-051

Title: Central America Discussion Agreement

Parties:

Concorde Shipping, Inc.

Global Reefer Carriers Ltd.

Dole Ocean Cargo Express

Crowley Liner Services Inc.

Seaboard Marine, Ltd.

A.P. Moller-Maersk Sealand

Trinity Shipping Line, S.A.

Ecuadorian Line

APL Co. Pte. Ltd.

Nordana Line

P&O Nedlloyd Limited

Lykes Lines Limited

Synopsis: The proposed modification would authorize the parties, by a vote of unanimous less one, to waive the security deposit requirement for new members. The modification also makes conforming and administrative changes.

Agreement No.: 217-011651-002

Title: A.P. Moller-Maersk Sealand/Samskip Space Charter and Sailing Agreement

Parties:

A.P. Moller-Maersk Sealand

Samskip Incorporated

Synopsis: The proposed Amendment restates the basic Agreement; revises Article 5.1 to clarify the terms and conditions applicable to the chartering of space by the parties; adds a new Article 5.2 to state the rights and obligations of the parties in the event of change in vessel or port rotations; and adds a new Article 13 regarding Sea Carrier Initiative agreements.

Agreement No.: 217-011687

Title: CCNI/CMA CGM Space Charter Agreement

Parties:

Compania Chilena de Navegacion Interoceanica S.A. (“CCNI”)

CMA CGM the French Line (“CMA CGM”)

Synopsis: The proposed agreement authorizes CCNI to charter space to CMA CGM in the trade between ports in Hamburg, Rotterdam, Antwerp, Felexstowe, Bilbao, and inland and coastal points served by those ports, on the one hand, and Puerto Rico and inland and coastal points served via Puerto Rico on the other hand. The parties have requested expedited review.

By Order Of the Federal Maritime Commission.
Dated: January 28, 2000.
Bryant L. VanBrakle,
Secretary.

[FR Doc. 00-2308 Filed 2-2-00; 8:45 am]

BILLING CODE 6730-01-P